DEPARTMENT OF HEALTH AND HUMAN SERVICES

Centers for Disease Control and Prevention

HIV; Preventing Transmission Through Transplantation of Human Tissue Organs; U.S. Public Health Service Guidelines; Notice of Meeting

In accordance with section 10(a)(2) of the Federal Advisory Committee Act (Pub. L. 92-463), the Centers for Disease Control and Prevention (CDC) announces the following meeting.

Name: Consultation to discuss the revision of the U.S. Public Health Service Guidelines for Preventing Transmission of Human Immunodeficiency Virus Through Transplantation of Human Tissue and Organs [MMWR/May 20, 1994/Vol.43/No.RR-8].

Times and Dates: 8:30 a.m.-5 p.m., June 26, 2000. 8:30 a.m.-4:30 p.m., June 27, 2000.

Place: Holiday Inn Select, 130 Clairmont Avenue, Decatur, Georgia 30030.

Status: Open to the public, limited only by the space available. The meeting room accommodates approximately 100 people.

Purpose: Attendees will discuss the potential revisions to the U.S. Public Health Service recommendations for guidelines for Preventing Transmission of Human Immunodeficiency Virus Through Transplantation of Human Tissue and Organs [MMWR/May 20, 1994/Vol. 43/ No.RR-8].

Matters To Be Discussed: Agenda items will include recent research regarding the transplantation of human tissue and organs.

FOR FURTHER INFORMATION CONTACT: Mary Helen Witten, Division of HIV/AIDS Prevention—Surveillance and Epidemiology, Office of the Director, National Center for HIV, STD, and TB Prevention, 1600 Clifton Road NE, MS D-21, Atlanta, Georgia 30333, 404-639-4592 or muw4@cdc.gov or, Dr. Kenneth A. Clark, Division of HIV/AIDS Prevention—Surveillance and Epidemiology, National Center for HIV, STD, and TB Prevention, 1600 Clifton Road NE, MS E-46, Atlanta, Georgia 30333, 404-639-2085 or KClark@cdc.gov.

The Director, Management Analysis and Services Office, has been delegated the authority to sign Federal Register Notices pertaining to announcements of meetings and other committee management activities, for both the Centers for Disease Control and Prevention and the Agency for Toxic Substances and Disease Registry.

Dated: May 3, 2000.
Carolyn J. Russell,
Director, Management Analysis and Services Office, Centers for Disease Control and Prevention.

[FR Doc. 00-11794 Filed 5-10-00; 8:45 am]

BILLING CODE 4163-18-P